DEPARTMENT OF TRANSPORTATION

Maritime Administration

Deepwater Port License: Amendment of the Neptune LNG LLC Deepwater Port License and Temporary Suspension of Operations at the Neptune LNG Deepwater Port

AGENCY: Maritime Administration, Department of Transportation.

ACTION: Notice.

SUMMARY: The Secretary of Transportation may, on petition of the licensee, amend a deepwater port license issued under the of the Deepwater Port Act of 1974, as amended. For purposes of this notice, the Maritime Administration (MARAD) provides public notice of its decision to approve the request of Neptune LNG LLC (Neptune) for continuation of the suspension of port operations at the Neptune Deepwater Port (Neptune Port) by amending the Neptune Deepwater Port License (License).

ADDRESSES: The Docket Management Facility maintains the public docket for this project. The docket may be viewed electronically at http://www.regulations.gov under docket number USCG-2005-22611.

FOR FURTHER INFORMATION CONTACT: If you have questions about the Neptune Deepwater Port License Amendment and suspension of port operations, please contact Ms. Yvette M. Fields, Director, Office of Deepwater Ports and Offshore Activities at (202) 366-0926 or Yvette.Fields@dot.gov. If you have questions on viewing the Docket, please contact Docket Operations at (202) 493-3024.

SUPPLEMENTARY INFORMATION: On December 22, 2017, MARAD received a written request from Neptune for authorization to temporarily suspend operations at the Neptune Port, located approximately 22 miles northeast of Boston, Massachusetts. In the request, Neptune indicated that conditions within the Northeast region's natural gas market continue to impact the Neptune Port's ability to import liquefied natural gas (LNG). As a result, the Neptune Port has remained inactive over the past several years and will likely remain inactive for the foreseeable future. For these reasons, Neptune requested MARAD's authorization to formally suspend port operations for a period of four years.

After conducting a thorough evaluation and consultation with various Federal agencies, MARAD has determined that the amendment of the license is consistent with the requirements of 33 U.S.C. chapter 29 and has accepted Neptune's request and authorized amendment of the License to provide an additional four-year suspension of port operations. The amendment is applicable only to Articles 2, 6, and 19 of the License. All other terms, conditions, and obligations of the License will remain in effect during and after the suspension period. The suspension period became effective June 26, 2018, and will extend for a period of four years, to be measured in calendar days.

In order to resume operations prior to expiration of the four-year suspension period, Neptune must petition MARAD for approval to resume port operations. The petition must be submitted at least six months prior to the proposed re-start date, and certify that Neptune is in receipt of all applicable Federal and State permits, approvals, and authorizations. Should Neptune request an extension of the suspension period, such request must be submitted to MARAD no less than one hundred eighty (180) calendar days prior to the expiration date of the suspension period. Thereafter, MARAD will evaluate, in consultation with the relevant Federal agencies, the appropriateness of such an extension. The final determination on any extension will be rendered by the Maritime Administrator or a designee acting on behalf of the Maritime Administrator.

Additional information pertaining to this public notice may be found in the public docket regarding the Neptune Deepwater Port License online at www.regulations.gov, under docket number USCG-2005-22611 (see ADDRESSES).

Authority: 49 CFR 1.93.

Dated: August 28, 2018.
By Order of the Maritime Administrator.
T. Mitchell Hudson, Jr.
Secretary, Maritime Administration.

[FR Doc. 2018-19048 Filed 8-31-18; 8:45 am]

BILLING CODE 4910-81-P